DEPARTMENT OF LABOR

Employment and Training Administration

[NAFTA-5990]

Optek Technology, Inc., Carrollton, TX; Notice of Termination of Investigation

Pursuant to Title V of the North American Free Trade Agreement Implementation Act (Pub. L. 103-182) concerning transitional adjustment assistance, hereinafter called (NAFTA-TAA), and in accordance with section 250(a), subchapter D, chapter 2, Title II, of the Trade Act of 1974, as amended (19 U.S.C. 2273), an investigation was initiated on March 11, 2002, in response to a petition filed by a company official on behalf of workers at Optek Technology, Inc., Carrollton, Texas.

The petitioning worker group is covered under an existing certification, NAFTA-5803. Consequently, further investigation in this case would serve no purpose, and the investigation has been terminated.

Signed at Washington, DC, this 13th day of May, 2002.
Linda G. Poole,
Certifying Officer, Division of Trade Adjustment Assistance.

[FR Doc. 02-14794 Filed 6-11-02; 8:45 am]

BILLING CODE 4510-30-P